DEPARTMENT OF COMMERCE

National Institute of Standards and Technology

National Fire Codes: Request for Proposals for Revision of Codes and Standards

AGENCY: National Institute of Standards and Technology, Commerce.

ACTION: Notice.

SUMMARY: The National Fire Protection Association (NFPA) proposes to revise some of its fire safety codes and standards and requests proposals from the public to amend existing or begin the process of developing new NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts, 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Request for Proposals

Interested persons may submit proposals, supported by written data, views, or arguments to Casey C. Grant, Secretary, Standards Council, NFPA, 1 Batterymarch Park, Quincy, Massachusetts, 02269-9101. Proposals should be submitted on forms available from the NFPA Codes and Standards Administration Office or on NFPA's Web site at http://www.nfpa.org.

Each person must include his or her name and address, identify the document and give reasons for the proposal. Proposals received before or by 5 PM local time on the closing date indicated would be acted on by the Committee. The NFPA will consider any proposal that it receives on or before the date listed with the codes or standards.

At a later date, each NFPA Technical Committee will issue a report, which will include a copy of written proposals that have been received, and an account of their disposition of each proposal by the NFPA Committee as the Report on Proposals. Each person who has submitted a written proposal will receive a copy of the report.

Document-edition | Document title | Proposal closing date
NFPA 18A-P* | Standard on Water Additives for Fire Control and Vapor Mitigation | 5/27/2005
NFPA 25-2002 | Standard for the Inspection, Testing, and Maintenance of Water-Based Fire Protection Systems | 5/27/2005
NFPA 51-2002 | Standard for the Design and Installation of Oxygen-Fuel Gas Systems for Welding, Cutting, and Allied Processes | 5/27/2005
NFPA 58-2004 | Liquefied Petroleum Gas Code | 5/27/2005
NFPA 59-2004 | Utility LP-Gas Plant Code | 3/3/2006
NFPA 68-2002 | Guide for Venting of Deflagrations | 5/27/2005
NFPA 70-2005 | National Electrical Code® | 11/4/2005
NFPA 85-2004 | Boiler and Combustion Systems Hazards Code | 5/27/2005
NFPA 204-2002 | Standard for Smoke and Heat Venting | 5/27/2005
NFPA 385-2000 | Standard for Tank Vehicles for Flammable and Combustible Liquids | 5/27/2005
NFPA 471-2002 | Recommended Practice for Responding to Hazardous Materials Incidents | 5/27/2005
NFPA 472-2002 | Standard for Professional Competence of Responders to Hazardous Materials Incidents | 5/27/2005
NFPA 473-2002 | Standard for Competencies for EMS Personnel Responding to Hazardous Materials Incidents | 5/27/2005
NFPA 551-2004 | Guide for the Evaluation of Fire Risk Assessments | 5/27/2005
NFPA 560-2002 | Standard for the Storage, Handling, and Use of Ethylene Oxide for Sterilization and Fumigation | 5/27/2005
NFPA 720-2005 | Standard for the Installation of Carbon Monoxide (CO) Warning Equipment in Dwelling Units | 5/26/2005
NFPA 900-2004 | Building Energy Code | 5/27/2005
NFPA 1005-P* | Standard on Professional Qualifications for Marine Fire Fighting for Land-Based Fire Fighters | 5/27/2005
NFPA 1037-P* | Standard for Professional Qualifications for Fire Marshal | 5/27/2005
NFPA 1041-2002 | Standard for Fire Service Instructor Professional Qualifications | 5/27/2005
NFPA 1051-2002 | Standard for Wildland Fire Fighter Professional Qualifications | 5/27/2005
NFPA 1061-2002 | Standard for Professional Qualifications for Public Safety Telecommunicator | 5/27/2005
NFPA 1141-2003 | Standard for Fire Protection in Planned Building Groups | 9/23/2005
NFPA 1144-2002 | Standard for Protection of Life and Property from Wildfire | 9/23/2005
NFPA 1402-2002 | Guide to Building Fire Service Training Centers | 5/27/2005
NFPA 1403-2002 | Standard on Live Fire Training Evolutions | 5/27/2005
NFPA 1451-2002 | Standard for a Fire Service Vehicle Operations Training Program | 5/27/2005
NFPA 1521-2002 | Standard for Fire Department Safety Officer | 9/30/2005
NFPA 1600-2004 | Standard on Disaster/Emergency Management and Business Continuity Programs | 5/27/2005
NFPA 1901-2003 | Standard for Automotive Fire Apparatus | 3/31/2006
NFPA 1961-2002 | Standard on Fire Hose | 5/27/2005
NFPA 1962-2003 | Standard for the Inspection, Care and Use of Fire Hose, Couplings and Nozzles; and the Service Testing of Fire Hose | 3/10/2006
NFPA 1964-2003 | Standard for Spray Nozzles | 3/10/2006
NFPA 2001-2004 | Standard on Clean Agent Fire Extinguishing Systems | 5/27/2005
* P Proposed NEW drafts are available from NFPA's Web site— www.nfpa.org or may be obtained from NFPA's Codes and Standards Administration, 1 Batterymarch Park, Quincy, Massachusetts, 02269.

Dated: May 27, 2005.
Hratch G. Semerjian,
Acting Director.

[FR Doc. 05-11118 Filed 6-2-05; 8:45 am]

BILLING CODE 3510-13-P